DEPARTMENT OF ENERGY

Federal Energy Regulatory Commission

Combined Notice of Filings

Take notice that the Commission has received the following Natural Gas Pipeline Rate and Refund Report filings:

Filings Instituting Proceedings

Docket Numbers: PR25-18-000.

Applicants: DTE Gas Company.

Description: § 284.123 Rate Filing: Revisions to the Operating Statement to be effective 11/21/2024.

Filed Date: 11/14/24.

Accession Number: 20241114-5206.

Comment Date: 5 p.m. ET 12/5/24.

Docket Numbers: RP25-186-000.

Applicants: Sierrita Gas Pipeline LLC.

Description: Compliance filing: Sierrita Operational Purchase and Sales Report 2024 to be effective N/A.

Filed Date: 11/14/24.

Accession Number: 20241114-5118.

Comment Date: 5 p.m. ET 11/26/24.

Docket Numbers: RP25-187-000.

Applicants: National Fuel Gas Supply Corporation.

Description: Compliance filing: TSCA—Informational Filing (November 2024) to be effective N/A.

Filed Date: 11/14/24.

Accession Number: 20241114-5178.

Comment Date: 5 p.m. ET 11/26/24.

Docket Numbers: RP25-188-000.

Applicants: Discovery Gas Transmission LLC.

Description: § 4(d) Rate Filing: 2025 HMRE Surcharge Annual Filing to be effective 1/1/2025.

Filed Date: 11/15/24.

Accession Number: 20241115-5008.

Comment Date: 5 p.m. ET 11/27/24.

Docket Numbers: RP25-189-000.

Applicants: Columbia Gulf Transmission, LLC.

Description: § 4(d) Rate Filing: Non-Conforming Agmt—Range Resources 196009 to be effective 12/16/2024.

Filed Date: 11/15/24.

Accession Number: 20241115-5017.

Comment Date: 5 p.m. ET 11/27/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-1122-001.

Applicants: Algonquin Gas Transmission, LLC.

Description: Supplement to 09/30/2024 OFO Penalty Disbursement Report of Algonquin Gas Transmission, LLC.

Filed Date: 11/14/24.

Accession Number: 20241114-5146.

Comment Date: 5 p.m. ET 11/26/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 15, 2024.
Carlos D. Clay,
Acting Deputy Secretary.

[FR Doc. 2024-27278 Filed 11-20-24; 8:45 am]

BILLING CODE 6717-01-P